ENVIRONMENTAL PROTECTION AGENCY

[FRL-8498-4]

State Innovation Grant Program, Notice of Availability of Solicitation for Proposals for 2008 Awards

AGENCY: Environmental Protection Agency (EPA).

ACTION: Notice.

SUMMARY: The U.S. Environmental Protection Agency, National Center for Environmental Innovation (NCEI) is giving notice of the availability of its solicitation for proposals for the 2008 grant program to support innovation by state environmental regulatory agencies—the “State Innovation Grant Program.”

The solicitation is available at the Agency's State Innovation Grant Web site: http://www.epa.gov/innovation/stategrants/solicitation2008.pdf, or may be requested from the Agency by e-mail to: innovation_state_grants@epa.gov, telephone, or by mail. Only the principal environmental regulatory agency within each State (generally, where delegated authorities for Federal environmental regulations exist) is eligible to receive these grants.

DATES: State environmental regulatory agencies will have until January 3, 2008 to respond with a pre-proposal, budget, and project summary. The environmental regulatory agencies from the fifty (50) States; Washington, DC, and four (4) territories were notified of the solicitation's availability by fax and email transmittals on November 15, 2007.

ADDRESSES: Copies of the solicitation can be downloaded from the Agency's Web site at: http://www.epa.gov/innovation/stategrants or may be requested by telephone (202-566-2186), or by e-mail (Innovation_State_Grants@epa.gov). You can request a solicitation application package be sent to you by fax or by mail by contacting NCEI as indicated below.

Applicants are requested to apply online using the Grants.gov Web site with an electronic signature. Applicants are encouraged to submit their pre-proposals early. For those applicants who lack the technical capability to apply electronically via Grants.gov, please contact Sherri Walker by phone at: (202) 566-2186 and/or by e-mail to: innovation_state_grants@epa.gov for alternative submission procedures. Proposals submitted in response to this solicitation, or questions concerning the solicitation should be sent to: State Innovation Grants Program, National Center for Environmental Innovation, Office of the Administrator, U.S. Environmental Protection Agency (MC 1807T), 1200 Pennsylvania Ave., NW., Washington, DC 20460, (202) 566-2186, (202) 566-2220 FAX, Innovation_State_Grants@epa.gov.

For courier delivery only: Sherri Walker, State Innovation Grants Program, U.S. EPA, EPA West Building, Room 4214D, 1301 Constitution Ave., NW., Washington, DC 20005.

Proposal responses or questions may also be sent by fax to (202-566-2220), addressed to the “State Innovation Grant Program,”or by e-mail to: Innovation_State_Grants@epa.gov. We encourage e-mail responses. If you have questions about responding to this notice, please contact EPA at this e-mail address or fax number, or you may call Sherri Walker at 202-566-2186. EPA will acknowledge all responses it receives to this notice.

SUPPLEMENTARY INFORMATION: The U.S. Environmental Protection Agency (EPA) is soliciting pre-proposals for an assistance agreement program (the “State Innovation Grant Program”) in an effort to support innovation by State environmental regulatory agencies. In April 2002, EPA issued its plan for future innovation efforts, published as Innovating for Better Environmental Result: A Strategy to Guide the Next Generation of Innovation at EPA (EPA 100-R-02-002; http://www.epa.gov/innovation/pdf/strategy.pdf). This assistance agreement program strengthens EPA's partnership with the States by supporting state innovation compatible with EPA's Innovation Strategy. EPA wants to encourage states to build on previous experience (theirs and others) to undertake strategic innovation projects that promote larger-scale models for “next generation” environmental protection and promise better environmental outcomes and other beneficial results. EPA is interested in funding projects that: (i) Go beyond a single facility experiment and provide change that is “systems-oriented;” (ii) provide better results from a program, process, or sector-wide innovation; and (iii) promote integrated (multi-media) environmental management with a high potential for transfer to other states, U.S. territories, and tribes.

“Innovation in Permitting” is again the theme for the 2008 solicitation. Under this theme, EPA is interested in pre-proposals that:

(a) Support the development of state Environmental Results Programs (ERPs);

(b) Implement National Environmental Performance Track (PT) or similar performance-based environmental leadership programs by states, particularly including the development and implementation of incentives; or

(c) Involve the application of Environmental Management Systems (EMS), including those that explore the relationship of EMS to permitting, or otherwise support integrated or multimedia strategies.

EPA continues to interpret “innovation in permitting” broadly to include permitting programs, pesticide licensing programs, and other alternatives or supplements to permitting programs. EPA is interested in creative approaches for both: (1) Achieving mandatory federal and state standards; and (2) encouraging performance and addressing environmental issues above and beyond minimum requirements. EPA's focus on a small number of topics within this general subject area effectively concentrates the limited resources available for greater strategic impact. EPA may contemplate a very limited number of projects not linked to these focus areas, but otherwise related to the general theme of innovation in permitting, in particular as they address EPA regional and state environmental permitting priorities.

This solicitation begins the sixth State Innovation Grant competition. Of the 35 projects that have been awarded in the prior rounds seventeen (17) were provided for development of environmental results programs, eight (8) were to enhance performance-based environmental leadership programs, eight (8) were related to environmental management systems and permitting, two (2) were for watershed-based permitting, and one (1) was for an information technology innovation for the application of geographic information systems (GIS) and a web-based portal to a permitting process. For information on prior State Innovation Grant Program solicitations and awards, please see the EPA State Innovation Grants Web site at http://www.epa.gov/innovation/stategrants.

Dated: November 6, 2007.
Elizabeth Shaw,
Director, Office of Environmental Policy Innovation.

[FR Doc. E7-22755 Filed 11-20-07; 8:45 am]

BILLING CODE 6560-50-P